DEPARTMENT OF TRANSPORTATION

Federal Aviation Administration

Approval of Noise Compatibility Program Update, Naples Municipal Airport (APF), Naples, Florida

AGENCY: Federal Aviation Administration, DOT.

ACTION: Notice.

SUMMARY: The Federal Aviation Administration (FAA) announces its findings on the Noise Compatibility Program (NCP) Update submitted by the Naples Airport Authority (NAA) for the Naples Municipal Airport (the Airport). On December 9, 2021, the FAA determined that Noise Exposure Maps (NEMs) submitted by the NAA were in compliance with applicable requirements. The NCP Update was submitted to the FAA for review on June 14, 2023. After completing initial reviews, the FAA accepted the Noise Compatibility Program and initiated the review process on June 18, 2024. On December 9, 2024 the FAA approved the Naples Airport NCP Update. The NCP contains one noise abatement measure, three land use measures, and six program management measures for which the NAA seeks approval. The noise abatement measure proposed at the airport is related to revised flight procedures. No action is taken at this time on the proposed noise abatement measure as it requires further FAA review. The FAA approved the nine other measures.

DATES: The effective date of the FAA's approval of the Naples Airport NCP Update is December 9, 2024.

FOR FURTHER INFORMATION CONTACT: Peter Green, Federal Aviation Administration, FAA Southern Region, Office of Airports (ASO-610), 1701 Columbia Avenue, College Park, Georgia 30337, (404) 305-6718.

SUPPLEMENTARY INFORMATION: This notice announces the FAA's approval of the Noise Compatibility Program Update for the Naples Municipal Airport (the Airport), effective on December 9, 2024. Per United States Code section 49 U.S.C. 47504 and Title 14, Code of Federal Regulations (CFR) part 150, an airport sponsor who previously submitted a noise exposure map (NEM) may submit to the FAA a noise compatibility program which sets forth the measures taken or proposed by the airport sponsor for the reduction of existing non-compatible land uses and prevention of additional non-compatible land uses within the area covered by the NEMs. As required by 49 U.S.C. 47504, such programs must be developed in consultation with interested and affected parties including local communities, government agencies, airport users, and the FAA. The FAA does not substitute its judgment for that of the airport sponsor with respect to which measures should be recommended for action. The FAA approval or disapproval of an airport sponsor's recommendations in its noise compatibility program are made in accordance with the requirements and standards pursuant to 49 U.S.C. 47504 and 14 CFR part 150, which is limited to the following determinations:

a. The noise compatibility program was developed in accordance with the provisions and procedures of 14 CFR 150.23;

b. Program measures are reasonably consistent with achieving the goals of reducing existing non-compatible land uses around the airport and preventing the introduction of additional non-compatible land uses;

c. Program measures would not create an undue burden on interstate or foreign commerce, unjustly discriminate against types or classes of aeronautical uses, violate the terms of airport grant agreements, or intrude into areas preempted by the Federal Government; and

d. Program measures relating to the use of flight procedures can be implemented within the period covered by the program without derogating safety, adversely affecting the efficient use and management of the navigable airspace and air traffic control systems, or adversely affecting other powers and responsibilities of the Administrator prescribed by law.

Specific limitations of the FAA's approval of NCPs are delineated in 14 CFR 150.5. Approval is not a determination concerning the acceptability of land uses under Federal, State, or local law. Approval does not by itself constitute an FAA implementing action. A request for Federal action or approval to implement specific noise compatibility measures may be required, and an FAA decision on the request may require an environmental review of the proposed action. Approval does not constitute a commitment by the FAA to assist financially in the implementation of the noise compatibility program nor a determination that all measures covered by the NCP are eligible for grant-in-aid funding from the FAA. Where Federal funding is sought, requests must be submitted to the FAA Orlando Airports District Office at 8427 SouthPark Circle, Suite 524, Orlando, Florida 32819.

The Naples Airport Authority submitted the noise exposure maps, descriptions, and other documentation produced during the noise compatibility planning study to the FAA, and the FAA determined that the NEMs for the Airport were in compliance with applicable requirements under 14 CFR part 150. The NEMs became effective December 9, 2021 (Noise Exposure Map Notice for Naples Municipal Airport, Naples, FL, 86 FR 71316 (December 15, 2021)). The NAA provided the FAA with the NCP, based on the accepted NEMs, on June 14, 2023. The NAA requested that the FAA review the submitted materials and that the noise mitigation measures, to be implemented jointly by the airport and surrounding communities, be approved as a NCP. The FAA initiated the formal review period, limited by law to a maximum of 180 days, on June 18, 2024 and published a Notice of Intent to review the NCP in the Federal Register on June 24, 2024 (Receipt of Noise Compatibility Program Update and Request for Review at Naples Airport (APF), Naples, FL, 89 FR 32531 (June 24, 2024)). The Federal Register Notice also announced the start of the 60-day public review period for the NCP and its documentation. The FAA received and considered comments from three interested parties during the public review period.

The Airport NCP is comprised of actions designed for phased implementation by airport management and adjacent jurisdictions within the next one to five years. The NAA requested that the FAA evaluate and approve this material as a noise compatibility program as described in 49 U.S.C. 47504. The FAA began its review of the program on June 18, 2024, and was required by a provision of 49 U.S.C. 47504 to approve or disapprove the program within 180 days, other than the use of new or modified flight procedures for noise control. The FAA's failure to approve or disapprove such program within the 180-day period is deemed an approval of such program.

The submitted program contains ten proposed measures to address aviation noise and noncompatible land uses. The FAA completed its review and determined that the procedural and substantive requirements of 49 U.S.C. 47504 and 14 CFR part 150 were satisfied. A Record of Approval for the overall program was issued by the FAA effective December 9, 2024.

The specific program elements and their individual determinations are as follows:

Noise Abatement Measure 1: Implement Procedures to Increase Glide Slope to Runway End 5—No Action Required At This Time.

Land Use Measure 1: Create a Residential Sound Insulation Program—Approved.

Land Use Measure 2: Encourage Comprehensive Planning; Consider Amendments to Zoning and Building Codes—Approved.

Land Use Measure 3: Purchase Avigation Easements—Approved.

Program Management Measure 1: Monitor Implementation of NCP Measures—Approved.

Program Management Measure 2: Design and Implement an Enhanced “Fly Quiet” Program—Approved.

Program Management Measure 3: Monitor Flight Tracks and Activity Trends—Approved.

Program Management Measure 4: Continue Purchase and Installation of NOMS—Approved.

Program Management Measure 5: Monitor and Determine Need for NEM and/or NCP Update—Approved.

Program Management Measure 6: Continue Community Education and Outreach—Approved.

These determinations are set forth in detail in the Record of Approval signed by the FAA Division Director, Airports Division, Southern Region on December 9, 2024. The Record of Approval, as well as other evaluation materials and the documents comprising the submittal, are available for review at the FAA office listed above. The Record of Approval is also available on the Naples Airport Part 150 Study website at Noise and Land Use Compatibility Study Documents—Fly Naples.

Issued in Orlando, FL, on December 12, 2024.
Juan C. Brown,
Manager, Orlando Airports District Office.

[FR Doc. 2024-29705 Filed 12-18-24; 8:45 am]

BILLING CODE 4910-13-P